ENVIRONMENTAL PROTECTION AGENCY

40 CFR Part 261

[SW-FRL-8185-4]

Hazardous Waste Management System; Identification and Listing of Hazardous Waste; Removal of Final Rule

AGENCY: Environmental Protection Agency.

ACTION: Removal of final rule.

SUMMARY: The Environmental Protection Agency (EPA) is removing its final rule to grant a petition submitted by Tokusen U.S.A, Inc. to exclude (or delist) a certain F006 filter cake generated by its Conway, Arkansas Plant from the lists of hazardous wastes. This rule removes the final rule published in 67 FR 79874 (December 31, 2002). The EPA has received data from the facility indicating that the waste currently generated is no longer representative of the waste for which the petition was submitted. EPA acknowledges these changes and has requested that Tokusen withdraw its petition. Tokusen may submit a new delisting petition for the waste stream at any time.

DATES: Effective June 20, 2006.

FOR FURTHER INFORMATION CONTACT: Michelle Peace by mail at U.S. EPA Region 6, Multimedia Planning and Permitting Division, Corrective Action and Waste Minimization Section (6PD-C), 1445 Ross Avenue, Dallas, TX 75202, by phone at (214) 665-7430 or by e-mail at peace.michelle@epa.gov.

SUPPLEMENTARY INFORMATION: On December 31, 2002, at 67 FR 79874, EPA finalized an exclusion from the list of hazardous wastes for Tokusen U.S.A., Inc in Conway, Arkansas. On November 8, 2004, EPA received information from the facility that the concentrations of zinc were elevated above the delisting exclusion concentrations. Tokusen withdrew its delisting petition, submitted October 24, 2001, for the F006 filter cake on January 6, 2006. The Tokusen U.S.A., Inc, Conway AR, exclusion found in 40 CFR part 261, appendix IX, Table 1 will be removed from the Code of Federal Regulations.

List of Subjects in 40 CFR Part 261

Environmental protection, Hazardous waste, Recycling, Reporting and recordkeeping requirements.

Authority: Section 3001(f) RCRA, 42 U.S.C. 6921(f).

Dated: June 2, 2006.
Carl E. Edlund,
Division Director, Multimedia Planning and Permitting Division, Region 6.

For the reasons set out in the preamble, title 40, chapter I of the Code of Federal Regulations is amended as follows:

PART 261—IDENTIFICATION AND LISTING OF HAZARDOUS WASTE

1. The authority citation for part 261 continues to read as follows:

Authority: 42 U.S.C. 6905, 6912(a), 6921, 6922 and 6938.

2. Appendix IX to part 261, Table 1—Wastes is amended by removing the entry “Tokusen U.S.A, Inc. Conway, Arkansas” and its related text.

[FR Doc. E6-9576 Filed 6-19-06; 8:45 am]

BILLING CODE 6560-50-P